DEPARTMENT OF AGRICULTURE

Food and Nutrition Service

Agency Information Collection Activities: Generic Clearance for the Development of Nutrition Education Messages and Products for the General Public

AGENCY: Food and Nutrition Service (FNS), USDA.

ACTION: Notice.

SUMMARY: In accordance with the Paperwork Reduction Act of 1995, this notice invites the general public and other public agencies to comment on this proposed information collection. This is a revision of a currently approved collection. This notice announces the Center for Nutrition Policy and Promotion's (CNPP) intention to request the Office of Management and Budget's approval of the information collection processes and instruments to be used during consumer research while testing nutrition education messages and products developed for the general public. The purpose of performing consumer research is to identify consumers' understanding of potential nutrition education messages and obtain their reaction to prototypes of nutrition education products, including internet-based tools. The information collected will be used to refine messages and improve the usefulness of products as well as aid consumer understanding of Dietary Guidelines-grounded messages and related materials.

DATES: Written comments must be received on or before July 5, 2022.

ADDRESSES: Comments may be sent to: Jessica Larson, Food and Nutrition Service, U.S. Department of Agriculture, 1320 Braddock Place, Fourth Floor, Alexandria, VA 22314. Comments may also be submitted via email to SM.FN.CNPPSupport@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Jessica Larson at 703-305-7600.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Generic Clearance for the Development of Nutrition Education Messages and Products for the General Public.

Form Number: Not applicable.

OMB Number: 0584-0523.

Expiration Date: 11/30/2022.

Type of Request: Revision of a currently approved collection.

Abstract: The Center for Nutrition Policy and Promotion (CNPP) of the U.S. Department of Agriculture (USDA) conducts consumer research to identify key issues of concern related to the public understanding the consumer translation of key guidance from the Dietary Guidelines for Americans (Dietary Guidelines or Guidelines) into consumer messages, tools and resources.

As background, the Dietary Guidelines is a primary source of dietary health information in the form of technical publication written for use by professional audiences, not consumers. Users include Federal agencies, health professionals, policy makers, and nutrition educators. Issued jointly by the USDA and Health and Human Services (HHS) every five years, the Guidelines serve as the cornerstone of Federal nutrition policy and form the basis for these agencies' development of consumer nutrition education efforts (nutrition messaging and development of consumer materials). Translation of key guidance from the technically written Dietary Guidelines into consumer messages and resources is essential so that the public has resources to help them make healthier eating choices. After the release of the 2010 Dietary Guidelines for use by professional audiences, a consumer communication initiative built around USDA's new MyPlate icon, including the resources at www.MyPlate.gov, was launched. MyPlate is a visual cue supported by messages and resources to help consumers make better food choices; these consumer materials are consistent with the Dietary Guidelines. It illustrates the five food groups and uses a familiar mealtime visual, a place setting, to prompt Americans to eat more healthfully. Information collected from consumer research will be used in further development of consumer nutrition messages and related resources to be communicated through MyPlate. These may include:

1. Messages and resources that help consumers make healthier food choices, grounded in the latest Dietary Guidelines;

2. Additions and enhancements to the www.MyPlate.gov website;

3. Materials relaying consumer messages supporting MyPlate, grounded in the latest Dietary Guidelines, for special population groups; and

4. New policy, messages, resources, and tools that might be developed as a result of the most current Dietary Guidelines, as well as the most currently available technologies.

CNPP works to improve the health and well-being of Americans by developing and promoting dietary guidance that links scientific research to the nutrition needs of consumers across the lifespan.

CNPP has among its major functions the development and coordination of nutrition guidance within USDA and is involved in the investigation of techniques for effective nutrition communication. Under Subtitle D of the National Agriculture Research, Extension, and Teaching Policy Act of 1977 (7 U.S.C. 3171-3175), the Secretary of Agriculture is required to develop and implement a national food and human nutrition research and extension program, including the development of techniques to assist consumers in selecting food that supplies a nutritionally adequate diet. Pursuant to 7 CFR 2.19(a)(3), the Secretary of Agriculture has delegated authority to CNPP for, among other things, developing materials to aid the public in selecting food for good nutrition; coordinating nutrition education promotion and professional education projects within the Department; and consulting with the Federal and State agencies, the Congress, universities, and other public and private organizations and the general public regarding food consumption and dietary adequacy.

Under Section 301 of Public Law 101-445 (7 U.S.C. 5341, the National Nutrition Monitoring and Related Research Act of 1990, Title III) the Secretaries of USDA and HHS are directed to publish the Dietary Guidelines for Americans jointly at least every five years. The law instructs that this publication shall contain nutritional and dietary information and guidelines for the general public, shall be based on the preponderance of scientific and medical knowledge current at the time of publication, and shall be promoted by each Federal agency in carrying out any Federal food, nutrition, or health program. Recent editions of the Dietary Guidelines provide dietary advice for Americans across the lifespan. By translating the Dietary Guidelines into consumer friendly nutrition education communication materials, CNPP and partnering agencies are able to help Americans make better or healthier food and beverage choices that can help improve health. One of the primary ways CNPP helps Americans apply the nutrition guidance in their daily lives is by developing and maintaining interactive, digital tools. CNPP's digital resources and tools provide hands-on learning opportunities that empower Americans to think critically about their food and health choices. Maintaining and enhancing CNPP's digital resources and tools are key in reversing the trend of childhood obesity and building a healthier next generation.

USDA's MyPlate icon is supported by a robust consumer nutrition education program to assist Americans in selecting foods for a dietary pattern that is consistent with the Dietary Guidelines.

Ensuring that MyPlate resources and related tools are useful to intended audiences is critical to CNPP's work and is a major activity included in its 5-year strategic plan in fulfillment of the Government Performance and Results Act of 1993 (31 U.S.C. 9701).

Affected Public: Individual/Households.

Estimated Number of Respondents: 57,700.

Estimated Number of Responses per Respondent: 1.006932 (One for focus group screeners, interview screeners, focus groups, journaling, interviews, web-based collections and consent forms. Three for consumer panels.).

Estimated Total Annual Responses: 58,100.

Estimated Time per Response: 12.759 minutes (0.21265 hours).

Estimated Total Annual Burden on Respondents: 12,354.96 rounded up to 12,355 hours. See the table below for estimated total annual burden for each type of respondent.

The total estimated annual burden is 12,355 hours and 58,100 responses. Thus, we are requesting 37,065 three year burden estimates and 174,300 total responses for three year approval period. Current estimates are based on both historical numbers of respondents from past projects as well as estimates for projects to be conducted in the next three years.

Cynthia Long,
Administrator, Food and Nutrition Service.

[FR Doc. 2022-09724 Filed 5-5-22; 8:45 am]

BILLING CODE 3410-30-P